NUCLEAR REGULATORY COMMISSION

Draft Regulatory Guide: Issuance, Availability

AGENCY: Nuclear Regulatory Commission.

ACTION: Issuance, Availability of Draft Regulatory Guide (DG)-1195.

FOR FURTHER INFORMATION CONTACT: Satish Aggarwal, U.S. Nuclear Regulatory Commission, Washington, DC 20555-0001, telephone: (301) 415-6005 or e-mail Satish.Aggarwal@NRC.gov.

SUPPLEMENTARY INFORMATION:

I. Introduction

The U.S. Nuclear Regulatory Commission (NRC) has issued for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Availability of Electric Power Sources,” is temporarily identified by its task number, DG-1195, which should be mentioned in all related correspondence.

This draft regulatory guide is revision 1 to Regulatory Guide (RG) 1.93, “Availability of Electric Power Sources,” dated December 1974. An earlier revision 1 to RG 1.93 was issued in October 2006 as DG-1153. Subsequent to its publication the staff received numerous comments from the public and members of the NRC staff. As a result, significant changes were made to the original draft guide (DG-1153). These changes necessitated reissuing revision 1 of RG 1.93 as a new DG for public comment.

This guide describes the operating procedures and restrictions that the staff of the NRC considers acceptable for implementation when the available electric power sources are less than the limiting conditions for operation. This guide is applicable to single and multi-unit plants. These practices and methods are the result of NRC review of operating experience and they reflect the latest methods and approaches acceptable to the NRC staff. If future information results in alternative methods, the NRC staff will review such methods to determine their acceptability.

II. Further Information

The NRC staff is soliciting comments on DG-1195. Comments may be accompanied by relevant information or supporting data, and should mention DG-1195 in the subject line. Comments submitted in writing or in electronic form will be made available to the public in their entirety through the NRC's Agencywide Documents Access and Management System (ADAMS).

Personal information will not be removed from your comments. You may submit comments by any of the following methods:

1. Mail comments to: Rulemaking, Directives, and Editing Branch, Office of Administration, U.S. Nuclear Regulatory Commission, Washington, DC 20555-0001.

2. E-mail comments to: NRCREP@nrc.gov.

3. Hand-deliver comments to: Rulemaking, Directives, and Editing Branch, Office of Administration, U.S. Nuclear Regulatory Commission, 11555 Rockville Pike, Rockville, Maryland 20852, between 7:30 a.m. and 4:15 p.m. on Federal workdays.

4. Fax comments to: Rulemaking, Directives, and Editing Branch, Office of Administration, U.S. Nuclear Regulatory Commission at (301) 415-5144.

Requests for technical information about DG-1195 may be directed to the NRC Senior Program Manager, Satish Aggarwal at (301) 415-6005 or e-mail at Satish.Aggarwal@NRC.gov.

Comments would be most helpful if received by July 25, 2008. Comments received after that date will be considered if it is practical to do so, but the NRC is able to ensure consideration only for comments received on or before this date. Although a time limit is given, comments and suggestions in connection with items for inclusion in guides currently being developed or improvements in all published guides are encouraged at any time.

Electronic copies of DG-1195 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML080570075.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to PDR@nrc.gov.

Regulatory guides are not copyrighted, and Commission approval is not required to reproduce them.

Dated at Rockville, Maryland, this 15th day of May, 2008.
For the Nuclear Regulatory Commission.
Stephen C. O'Connor,
Regulatory Guide Development Branch, Division of Engineering, Office of Nuclear Regulatory Research.

[FR Doc. E8-11473 Filed 5-21-08; 8:45 am]

BILLING CODE 7590-01-P